DEPARTMENT OF COMMERCE

International Trade Administration

[A-580-831]

Stainless Steel Plate in Coils From the Republic of Korea; Rescission of Antidumping Duty Administrative Review

AGENCY: Import Administration, International Trade Administration, Department of Commerce.

ACTION: Notice of rescission of antidumping duty administrative review.

SUMMARY: On June 19, 2001, the Department of Commerce published in the Federal Register (66 FR 32934) a notice announcing the initiation of an administrative review of the antidumping duty order on stainless steel plate in coils from the Republic of Korea for one producer/exporter of the subject merchandise, Pohang Iron & Steel, Co., Ltd. (“POSCO”) covering the period of review (“POR”), which is May 1, 2000 through April 30, 2001. The Department of Commerce is rescinding this review with respect to POSCO pursuant to a timely request under 19 CFR 351.213(d)(1) from POSCO, the only party that requested the review. Petitioners did not request a review of POSCO.

EFFECTIVE DATE: December 11, 2001.

FOR FURTHER INFORMATION CONTACT: Brandon Farlander or Laurel LaCivita, Office 9, AD/CVD Enforcement Group III, Import Administration, International Trade Administration, U.S. Department of Commerce, 14th Street and Constitution Avenue, NW., Washington, DC 20230; telephone: (202) 482-0182, or (202) 482-4243, respectively.

SUPPLEMENTARY INFORMATION:

Applicable Statute and Regulations

Unless otherwise indicated, all citations to the Tariff Act of 1930, as amended, are to the provisions effective January 1, 1995, the effective date of the amendments made to the Tariff Act by the Uruguay Round Agreements Act (URAA). In addition, unless otherwise indicated, all citations to the Department of Commerce's (the Department) regulations are to the regulations codified at 19 CFR part 351 (2000).

Background

The Department published in the Federal Register on May 1, 2001 (66 FR 21740), a “Notice of Opportunity to Request Administrative Review” of the antidumping duty order on stainless steel plate in coils from the Republic of Korea. On May 31, 2001, POSCO requested that the Department conduct an administrative review of this order with respect to its sales of the subject merchandise. On June 19, 2001, the Department of Commerce initiated an administrative review for the period May 1, 2000 through April 30, 2001 (66 FR 32934). On July 5, 2001, POSCO, the only interested party to request a review in this case, withdrew its request for review. Since POSCO withdrew its request for review within 90 days of the date of publication of the notice of initiation, in accordance with 19 CFR 351.213(d)(1), the Department is rescinding the review for the period May 1, 2000 through April 30, 2001.

This notice is issued and published in accordance with 19 C.F.R. 351.213(d)(4).

Dated: December 5, 2001.
Richard O. Weible,
Acting Deputy Assistant Secretary for Import Administration, Group III.

[FR Doc. 01-30606 Filed 12-10-01; 8:45 am]

BILLING CODE 3510-DS-P